DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Alabama:
Jefferson (FEMA Docket No. D-7571) | City of Homewood | March 21, 2005; March 28, 2005; The Birmingham News | The Honorable Barry R. McCulley, Mayor of the City of Homewood, 1903 29th Avenue South, Homewood, Alabama 35209 | April 14, 2005 | 015006 E
Colbert (FEMA Docket No. D-7571) | City of Muscle Shoals | March 25, 2005; April 1, 2005; Times Daily | The Honorable David H. Bradford, Mayor of the City of Muscle Shoals, P.O. Box 2624, Muscle Shoals, Alabama 35662 | April 18, 2005 | 010047 C
Connecticut: New Haven (FEMA Docket No. D-7573) | City of Meriden | February 22, 2005; March 1, 2005; Record-Journal | The Honorable Mark Benigni, Mayor of the City of Meriden, 1242 East Main Street, City Hall, Meriden, Connecticut 06450 | February 15, 2005 | 090081 C
Florida:
Duval (FEMA Docket No. D-7571) | City of Jacksonville | March 24, 2005; March 31, 2005; The Florida Times-Union | The Honorable John Peyton, Mayor of the City of Jacksonville, 117 West Duval Street, Suite 400, Jacksonville, Florida 32202 | June 30, 2005 | 120077 E
Duval (FEMA Docket No. D-7571) | City of Jacksonville | April 6, 2005; April 13, 2005; The Florida Times-Union | The Honorable John Peyton, Mayor of the City of Jacksonville, 4th Floor, City Hall at St. James, 117 West Duval Street, Suite 400, Jacksonville, Florida 32202 | April 29, 2005 | 120077 E
Georiga: DeKalb (FEMA Docket No. D-7571) | City of Decatur | March 24, 2005; March 31, 2005; The Champion | The Honorable Bill Floyd, Mayor of the City of Decatur, P.O. Box 220, Decatur, Georgia 30031 | March 18, 2005 | 135159 H
Pennsylvania:
Northampton (FEMA Docket No. D-7571) | City of Bethlehem | April 8, 2005; April 15, 2005; The Morning Call | The Honorable John B. Callahan, Mayor of the City of Bethlehem, 10 East Church Street, Bethlehem, Pennsylvania 18018 | July 15, 2005 | 420718 D
Lycoming (FEMA Docket No. D-7573) | Township of McIntyre | April 22, 2005; April 29, 2005; Williamsport Sun Gazette | Mr. Albert Boyer, Chairman of the Township of McIntyre Board of Supervisors, 12886 Route 14, Roaring Branch, Pennsylvania 17765 | July 29, 2005 | 420645 E
Adams (FEMA Docket No. D-7569) | Township of Oxford | March 10, 2005; March 17, 2005; The Gettysburg Times and The Hanover Evening Sun | Mr. Donald F. Poist, Supervisor of the Township of Oxford, Municipal Building, P.O. Box 86, New Oxford, Pennsylvania 17350 | June 16, 2005 | 420003 B
Bucks (FEMA Docket No. D-7571) | Township of Wrightstown | April 8, 2005; April 15, 2005; Bucks County Courtier Times | Mr. Chester S. Pogonowski, Chairman of the Township of Wrightstown Board of Supervisors, 738 Penns Park Road, Wrightstown, Pennsylvania 18940 | July 15, 2005 | 421045 F
West Virginia: Wyoming (FEMA Docket No. D-7569) | Unincorporated Areas | February 16, 2005; February 23, 2005; The Independent Herald | Mr. Herman R. Davis, President of the Wyoming County Commission, P.O. Box 309, Pineville, West Virginia 24874-0309 | May 25, 2005 | 540217 B

(Catalog of Federal Domestic Assistance No. 83.100, “Flood Insurance”)
Dated: September 14, 2005.
David I. Maurstad,
Acting Director, Mitigation Division, Emergency Preparedness and Response Directorate.

[FR Doc. 05-18734 Filed 9-19-05; 8:45 am]

BILLING CODE 9110-12-U